DEPARTMENT OF TRANSPORTATION

Federal Aviation Administration

14 CFR Part 71

[Docket No. FAA-2006-23872; Airspace Docket No. 06-AAL-9]

RIN 2120-AA66

Establishment of Offshore Airspace Area 1485L and Revision of Control 1485H; Barrow, AK

AGENCY: Federal Aviation Administration (FAA), DOT.

ACTION: Final rule.

SUMMARY: This action establishes Control 1485L and revises Control 1485H offshore airspace in the vicinity of Barrow, AK. This action establishes controlled airspace outside of 12 nautical miles (NM) of the U.S. shoreline upward from 1,200 feet mean sea level (MSL) along the North Slope of Alaska. Additionally, this action revises the altitudes of Control 1485H from FL 230/FL 450 to FL 180/FL 600. This action provides additional controlled airspace for aircraft executing instrument flight rules (IFR) operations at the airfields along the North Slope of Alaska in anticipation of establishing terminal arrival areas associated with Area Navigation (RNAV) Standard Instrument Arrival Procedures (SIAPs).

DATES: Effective Date: 0901 UTC, September 28, 2006.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On April 20, 2006, the FAA published in the Federal Register a notice of proposed rulemaking to establish Control 1485L, and revise Control 1485H, offshore airspace area in Alaska (71 FR 20374). Interested parties were invited to participate in this rulemaking effort by submitting written comments on the proposal. No comments were received.

Offshore Airspace Areas are published in paragraph 6007 of FAA Order 7400.9O dated September 1, 2006, and effective September 15, 2006, which is incorporated by reference in 14 CFR 71.1. The Offshore Airspace Areas listed in this document will be published subsequently in the Order.

The Rule

This action amends Title 14 Code of Federal Regulations (14 CFR) part 71 by establishing Control 1485L Offshore Airspace Area, AK, extending upward from 1,200 feet MSL along the North Slope of Alaska. This action provides controlled airspace beyond 12NM from the shoreline of the United States in those areas where there will soon be a requirement to provide IFR enroute air traffic control services and within which the United States is applying domestic procedures. This action will establish controlled airspace of sufficient size to support the terminal arrival area associated with new IFR operations at Atqasuk Airport, AK. Future plans for Barrow, AK are also taken into consideration for this action. The FAA Instrument Flight Procedures Production and Maintenance Branch have revised four SIAPs for the Atqasuk Airport, which requires controlled airspace outside the 12NM. Controlled airspace extending upward from 1,200 feet above the surface in international airspace is created by this action. Additionally, the floor of Control 1485H is lowered from FL 230 to FL 180 to fill the gap between low and high control areas and raises the ceiling from FL 245 to FL 600.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

ICAO Considerations

As part of this proposal relates to navigable airspace outside the United States, this notice is submitted in accordance with the International Civil Aviation Organization (ICAO) International Standards and Recommended Practices.

The application of International Standards and Recommended Practices by the FAA, Office of System Operations Airspace and AIM, Airspace & Rules, in areas outside the United States domestic airspace, is governed by the Convention on International Civil Aviation. Specifically, the FAA is governed by Article 12 and Annex 11, which pertain to the establishment of necessary air navigational facilities and services to promote the safe, orderly, and expeditious flow of civil air traffic. The purpose of Article 12 and Annex 11 is to ensure that civil aircraft operations on international air routes are performed under uniform conditions.

The International Standards and Recommended Practices in Annex 11 apply to airspace under the jurisdiction of a contracting state, derived from ICAO. Annex 11 provisions apply when air traffic services are provided and a contracting state accepts the responsibility of providing air traffic services over high seas or in airspace of undetermined sovereignty. A contracting state accepting this responsibility may apply the International Standards and Recommended Practices that are consistent with standards and practices utilized in its domestic jurisdiction.

In accordance with Article 3 of the Convention, state-owned aircraft are exempt from the Standards and Recommended Practices of Annex 11. The United States is a contracting state to the Convention. Article 3(d) of the Convention provides that participating state aircraft will be operated in international airspace with due regard for the safety of civil aircraft. Since this action involves, in part, the designation of navigable airspace outside the United States, the Administrator is consulting with the Secretary of State and the Secretary of Defense in accordance with the provisions of Executive Order 10854.

List of Subjects in 14 CFR Part 71

Airspace, Incorporation by reference, Navigation (air).

The Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9O, Airspace Designations and Reporting Points, dated September 1, 2006, and effective September 15, 2006, is amended as follows:

Paragraph 6007 Offshore Airspace Areas.

* * * * *

Control 1485L [New]

That airspace extending upward from 1,200 feet MSL within the area bounded by a line beginning at a point 12 miles offshore at lat. 68°00′00″ N.; to lat. 68°00′00″ N., long. 168°58′23″ W.; to lat. 72°00′00″ N., long. 158°00′00″ W.; to lat. 72°00′00″ N., long. 144°00′11″ W.; to lat. 75°00′00″ N., long. 141°00′00″ W.; to a point 12 miles offshore at long.141°00′00″ W.; thence westward by a line 12 miles from and parallel to the shoreline to the point of beginning.

* * * * *

Paragraph 2003 Offshore Airspace Areas.

* * * * *

Control 1485H [Revised]

That airspace extending upward from 18,000 feet to FL 600 within the area bounded by a line beginning at a point 12 miles offshore at lat. 68°00′00″ N.; to lat. 68°00′00″ N., long. 168°58′23″ W.; to lat. 72°00′00″ N., long. 158°00′00″ W.; to lat. 72°00′00″ N., long. l44°00′11″ W.; to lat. 75°00′00″ N., long. 141°00′00″ W.; to a point 12 miles offshore at long.141°00′00″ W.; thence westward by a line 12 miles from and parallel to the shoreline to the point of beginning.

* * * * *

Issued in Washington, DC, on June 23, 2006.
Edith V. Parish,
Manager, Airspace and Rules.

[FR Doc. E6-10282 Filed 6-29-06; 8:45 am]

BILLING CODE 4910-13-P